DEPARTMENT OF TRANSPORTATION

Federal Transit Administration

[FTA Docket No. FTA 2025-0235]

Agency Information Collection Activity Under OMB Review: Transit Research, Development, Demonstration, Deployment and Training Projects

AGENCY: Federal Transit Administration, Department of Transportation.

ACTION: Notice of request for comments.

SUMMARY: In accordance with the Paperwork Reduction Act of 1995, this notice announces the intention of the Federal Transit Administration (FTA) to request the Office of Management and Budget (OMB) to approve a request for an extension without change to an existing information collection: Transit Research, Development, Demonstration, Deployment and Training Projects.

DATES: Comments must be submitted before February 23, 2026.

ADDRESSES: To ensure that your comments are not entered more than once into the docket, submit comments identified by the docket number by only one of the following methods:

1. Website: https://www.regulations.gov. Follow the instructions for submitting comments on the U.S. Government electronic docket site. All electronic submissions must be made to the U.S. Government electronic docket site at https://www.regulations.gov. Commenters should follow the directions below for mailed and hand-delivered comments.

2. Fax: 202-366-7951.

3. Mail: U.S. Department of Transportation, 1200 New Jersey Avenue SE, Docket Operations, M-30, West Building, Ground Floor, Room W12-140, Washington, DC 20590-0001.

4. Hand Delivery: U.S. Department of Transportation, 1200 New Jersey Avenue SE, Docket Operations, M-30, West Building, Ground Floor, Room W12-140, Washington, DC 20590-0001 between 9 a.m. and 5 p.m., Monday through Friday, except Federal holidays.

Instructions: You must include the agency name and docket number for this notice at the beginning of your comments. Submit two copies of your comments if you submit them by mail. For confirmation that FTA has received your comments, include a self-addressed stamped postcard. Note that all comments received, including any personal information, will be posted and will be available to internet users, without change, to https://www.regulations.gov. You may review DOT's complete Privacy Act Statement in the Federal Register published April 11, 2000, (65 FR 19477), or you may visit https://www.regulations.gov. Docket: For access to the docket to read background documents and comments received, go to https://www.regulations.gov at any time. Background documents and comments received may also be viewed at the U.S. Department of Transportation, 1200 New Jersey Avenue SE, Docket Operations, M-30, West Building, Ground Floor, Room W12-140, Washington, DC 20590-0001 between 9 a.m. and 5 p.m., Monday through Friday, except Federal holidays.

FOR FURTHER INFORMATION CONTACT: Lisa Colbert, Office of Research and Innovation (202) 366-9261 or Lisa.Colbert@dot.gov.

SUPPLEMENTARY INFORMATION: Interested parties are invited to send comments regarding any aspect of this information collection, including: (1) the necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

Title: Transit Research, Development, Demonstration, Deployment and Training Projects.

OMB Number: 2132-0546.

Background: In accordance with the Paperwork Reduction Act (PRA) of 1995, the Federal Transit Administration (FTA) is requesting Office of Management and Budget (OMB) 3-year approval of an extension without change for a currently approved collection. The Federal Transit Administration administers a suite of grant programs that support research, development, demonstration, deployment, cooperative research, technical assistance, standards development, and workforce training in public transportation. These programs provide funding for projects that advance new technologies and practices, address operational challenges, support national research efforts, offer technical assistance to the transit industry, and strengthen the public transportation workforce. Together, these programs help transit agencies improve service delivery, enhance safety, develop industry standards, and build the skills and capabilities needed across the transit workforce. Information collected through these programs is used to evaluate applications, select projects for funding, monitor progress, and share results with stakeholders.

Respondents: Federal Government Departments, agencies, and instrumentalities of the Government, including Federal laboratories; State and local governmental entities; providers of public transportation; private or non-profit organizations; institutions of higher education; and technical and community colleges.

Estimated Annual Number of Respondents: 175 respondents.

Estimated Annual Number of Responses: 775 responses.

Estimated Total Annual Burden: 20,550 hours.

Frequency: Every Two years.

Kusum Dhyani,
Director, Office of Management Planning.

[FR Doc. 2025-23677 Filed 12-22-25; 8:45 am]

BILLING CODE 4910-57-P